FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than January 26, 2023.

A. Federal Reserve Bank of Minneapolis (Stephanie Weber, Assistant Vice President), 90 Hennepin Avenue, Minneapolis, Minnesota 55480-0291. Comments can also be sent electronically to MA@mpls.frb.org:

1. The Gasterland Family GST Trust, La Crosse, Wisconsin; Dirk R. Gasterland, individually and as trustee, Chaska, Minnesota; Jennifer VandenBrink, individually and as trustee, Chanhassen, Minnesota; Lloyd Michael Gilbertson, Grand Rapids, Minnesota; Olaf Gilbertson, Jordan, Minnesota; Gretchen Gasterland-Gustafsson, Grace Gasterland, and a certain minor child, all of St. Paul, Minnesota; Natalie Gasterland, Chicago, Illinois; Emma Gasterland-Gustafsson, Brooklyn, New York; and Lilly Gasterland-Gustafsson, New York, New York; to join the Gasterland Control Group, a group acting in concert, to retain voting shares of Coulee Bancshares, Inc., and thereby indirectly retain voting shares of Coulee Bank, both of La Crosse, Wisconsin.

B. Federal Reserve Bank of Kansas City (Jeffrey Imgarten, Assistant Vice President) 1 Memorial Drive, Kansas City, Missouri 64198-0001:

1. Johannes Wilhelmus Antonius Zuurbier, Amsterdam, Netherlands; to acquire voting shares of Steinauer Bancorp, and thereby indirectly acquire voting shares of Bank of Steinauer, both of Steinauer, Nebraska.

Board of Governors of the Federal Reserve System.
Michele Taylor Fennell,
Deputy Associate Secretary of the Board.

[FR Doc. 2023-00404 Filed 1-10-23; 8:45 am]

BILLING CODE 6210-01-P